DEPARTMENT OF AGRICULTURE

Grain Inspection, Packers, and Stockyards Administration

Opportunity for Designation in the California; Frankfort, IN; Indianapolis, IN; and Virginia Areas and Request for Comments on the Official Agencies Serving These Areas

AGENCY: Grain Inspection, Packers and Stockyards Administration, USDA.

ACTION: Notice.

SUMMARY: The designations of the official agencies listed below will end on December 31, 2009. We are asking persons or governmental agencies interested in providing official services in the areas served by these agencies to submit an application for designation. We are also asking for comments on the quality of services provided by these currently designated agencies: California Agri Inspection Company, Inc. (California Agri); Frankfort Grain Inspection, Inc. (Frankfort); Indianapolis Grain Inspection & Weighing Service, Inc. (Indianapolis); and Virginia Department of Agriculture and Consumer Services (Virginia).

DATES: Applications and comments must be received on or before July 1, 2009.

ADDRESSES: We invite you to submit applications and comments on this notice by any of the following methods:

• To apply for designation, go to “FGISonline” at https://fgis.gipsa.usda.gov/default_home_FGIS.aspx then select Delegations/Designations and Export Registrations (DDR). You will need a USDA e-authentication, username, password, and a customer number prior to applying.

• Hand Delivery or Courier: Karen Guagliardo, Review Branch Chief, Compliance Division, GIPSA, USDA, Room 1647-S, 1400 Independence Avenue, SW., Washington, DC 20250.

• Fax: (202) 690-2755, to the attention of: Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting and reading comments online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act (USGSA or Act) (7 U.S.C. 71-87k) authorizes GIPSA's Administrator to designate a qualified applicant to provide official services in a specified area after determining that the applicant is better able than any other applicant to provide such official services.

Under section 7(g)(1) of the USGSA, designations of official agencies are effective for 3 years unless terminated by the Secretary, but may be renewed according to the criteria and procedures prescribed in section 7(f) of the Act.

Areas Open for Designation

California Agri

Pursuant to Section 7(f)(2) of the Act, the following geographic area, in the State of California, is assigned to this official agency.

Bounded on the North by the northern California State line east to the eastern California State line;

Bounded on the East by the eastern California State line south to the southern San Bernardino County line;

Bounded on the South by the southern San Bernardino and Orange County lines west to the western California State line; and

Bounded on the West by the western California State line north to the northern California State line.

California Agri's assigned geographic area does not include the export port locations inside California Agri's area which are serviced by GIPSA.

Frankfort

Pursuant to Section 7(f)(2) of the Act, the following geographic area, in the State of Indiana, is assigned to this official agency:

Bounded on the North by the northern Fulton County line;

Bounded on the East by the eastern Fulton County line south to State Route 19; State Route 19 south to State Route 114; State Route 114 southeast to the eastern Fulton and Miami County lines; the northern Grant County line east to County Highway 900E; County Highway 900E south to State Route 18; State Route 18 east to the Grant County line; the eastern and southern Grant County lines; the eastern Tipton County line; the eastern Hamilton County line south to State Route 32;

Bounded on the South by State Route 32 west to the Boone County line; the eastern and southern Boone County lines; the southern Montgomery County line; and

Bounded on the West by the western and northern Montgomery County lines; the western Clinton County line; the western Carroll County line north to State Route 25; State Route 25 northeast to Cass County; the western Cass and Fulton County lines.

Frankfort's assigned geographic area does not include the following grain elevators inside Frankfort's area which have been and will continue to be serviced by the following official agency: Titus Grain Inspection, Inc.: The Andersons, Delphi, Carroll County; Frick Services, Inc., Leiters Ford, Fulton County; and Cargill, Inc., Linden, Montgomery County.

Indianapolis

Pursuant to Section 7(f)(2) of the Act, the following geographic area, in the State of Indiana, is assigned to this official agency:

Bartholomew; Brown; Hamilton, south of State Route 32; Hancock; Hendricks; Johnson; Madison, west of State Route 13 and south of State Route 132; Marion; Monroe; Morgan; and Shelby Counties.

Virginia

Pursuant to Section 7(f)(2) of the Act, the following geographic area, the entire State of Virginia, except those export port locations within the State, is assigned to this official agency.

Opportunity for Designation

Interested persons or governmental agencies, including California Agri, Frankfort, Indianapolis, and Virginia may apply for designation to provide official services in the geographic areas specified above under the provisions of section 7(f) of the USGSA and 7 CFR 800.196(d). Designation in the specified geographic areas is for the period beginning January 4, 2010, and ending December 31, 2012. To apply for designation or for more information contact the Compliance Division at the address listed above or visit the GIPSA Web site at http://www.gipsa.usda.gov.

Request for Comments

We are publishing this notice to provide interested persons the opportunity to comment on the quality of services provided by the California Agri, Frankfort, Indianapolis, and Virginia official agencies. In the designation process, we are particularly interested in receiving comments citing reasons and pertinent data supporting or objecting to the designation of the applicants. Submit all comments to the Compliance Division at the above address or at http://www.regulations.gov.

In determining which applicant will be designated, we will consider applications, comments, and other available information.

Authority: 7 U.S.C. 71-87k.

J. Dudley Butler,
Administrator, Grain Inspection, Packers, and Stockyards Administration.

[FR Doc. E9-12636 Filed 5-29-09; 8:45 am]

BILLING CODE 3410-KD-P